DEPARTMENT OF JUSTICE

Notice of Lodging of Proposed Consent Decree Under the Comprehensive Environmental Response, Compensation, and Liability Act (CERCLA)

On September 15, 2020, the Department of Justice lodged a proposed Consent Decree with the United States District Court for the Western District of Tennessee in the lawsuit entitled United States and State of Tennessee v. Security Signals, Inc., Civil Action No. 2:20-cv-02689-JMP.

The Consent Decree resolves the United States and State of Tennessee's claims set forth in the Complaint against Security Signals, Inc. (“Defendant”) for injunctive relief and cost recovery under Sections 106 and 107(a) of the Comprehensive Environmental Response, Compensation, and Liability Act (“CERCLA”) and injunctive relief under Tenn. Code Ann §§ 68-212-206 and 68-212-227 relating to the release or threatened release of hazardous substances into the environment at Operable Unit Two (“OU2”) of the National Fireworks Superfund Alternative Site (the “Site”), located in Cordova, Shelby County, Tennessee. Under the terms of the proposed Consent Decree, Defendant will reimburse $677,715 of the costs incurred by the United State Environmental Protection Agency (“EPA”) and Defendant will reimburse $3,827.26 of the costs incurred by the State of Tennessee (the “State”) in connection with response actions at OU2 of the Site. Defendant also will reimburse EPA and the State for their future responses at OU2 and will perform the work set forth in the interim Record of Decision issued by EPA on September 30, 2014. The United States Department of Defense (“DOD”) is a settling federal agency. Under the terms of the Consent Decree, DOD will pay Defendant $1,304,985 towards a percentage of Defendant's past and future costs at OU2 and in contribution towards the payments that the Defendant is making for EPA's and the State's response costs.

The publication of this notice opens a period for public comment on the Consent Decree. Comments should be addressed to the Assistant Attorney General, Environment and Natural Resources Division, and should refer to United States and State of Tennessee v. Security Signals, Inc., D.J. Ref. No. 90-11-3-11315. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.25 (25 cents per page reproduction cost) payable to the United States Treasury. The document does not contain the exhibits and signature pages.

Lori Jonas,
Assistant Section Chief, Environmental Enforcement Section, Environment and Natural Resources Division.

[FR Doc. 2020-20908 Filed 9-21-20; 8:45 am]

BILLING CODE 4410-15-P